DEPARTMENT OF COMMERCE

International Trade Administration

[A-428-602]

Brass Sheet and Strip from Germany: Final Results of the Full Sunset Review of the Antidumping Duty Order

AGENCY: Import Administration, International Trade Administration, Department of Commerce.

SUMMARY: On October 28, 2005, the Department of Commerce (“the Department”) published a notice of preliminary results of the full sunset review of the antidumping duty order on brass sheet and strip (“BSS”) from Germany (70 FR 62093) pursuant to section 751(c) of the Tariff Act of 1930, as amended (“the Act”). We provided interested parties an opportunity to comment on our preliminary results. We did not receive comments from either domestic or respondent interested parties. As a result of this review, the Department finds that revocation of this order would be likely to lead to continuation or recurrence of dumping at the levels indicated in the “Final Results of Review” section of this notice.

EFFECTIVE DATE: January 26, 2006.

FOR FURTHER INFORMATION CONTACT: Audrey R. Twyman, Brandon Farlander, or David Goldberger, AD/CVD Operations, Office 1, Import Administration, International Trade Administration, U.S. Department of Commerce, 14th Street & Constitution Avenue, NW, Washington, DC, 20230; telephone: 202-482-3534, 202-482-0182, and 202-482-4136, respectively.

SUPPLEMENTARY INFORMATION:

Background

On October 28, 2005, the Department of Commerce (the “Department”) published in the Federal Register a notice of preliminary results of the full sunset review of the antidumping duty order on BSS from Germany, pursuant to section 751(c) of the Act. See Brass Sheet and Strip from Germany: Preliminary Results of the Sunset Review of Antidumping Duty Order, 70 FR 62093 (October 28, 2005) (“Preliminary Results”). In our Preliminary Results, we determined that revocation of the order would likely result in continuation or recurrence of dumping with a margin of 3.81 percent for Wieland-Werke AG and an “all others” rate of 7.30 percent. We did not receive a case brief on behalf of either domestic or respondent interested parties within the deadline specified in 19 CFR 351.309(c)(1)(i).

Scope of the Order

The product covered by this order is brass sheet and strip, other than leaded and tinned. The chemical composition of the covered product is currently defined in the Copper Development Association (“C.D.A.”) 200 Series or the Unified Numbering System (“U.N.S.”) C2000. This order does not cover products with chemical compositions that are defined by anything other than either the C.D.A. or U.N.S. series. In physical dimensions, the product covered by this order has a solid rectangular cross section over 0.0006 inches (0.15 millimeters) through 0.1888 inches (4.8 millimeters) in finished thickness or gauge, regardless of width. Coiled, wound-on-reels (traverse wound), and cut-to-length products are included. The merchandise is currently classified under Harmonized Tariff Schedule of the United States (“HTSUS”) item numbers 7409.21.00 and 7409.29.00. The HTSUS numbers are provided for convenience and customs purposes. The written description of the scope of this order remains dispositive.

Analysis of Comments Received

The Department did not receive case briefs from either domestic or respondent interested parties. Therefore, we have not made any changes to our Preliminary Results.

Final Results of Review

We determine that revocation of the antidumping duty order on BSS from Germany would be likely to lead to continuation or recurrence of dumping at the following weighted-average margins:

Manufacturer/Exporter | Margin (percent)
Wieland-Werke AG | 3.81
All Others | 7.30

This notice serves as the only reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

We are issuing and publishing these results in accordance with sections 751(c), 752, and 777(i)(1) of the Act.

Dated: January 20, 2006.
David M. Spooner,
Assistant Secretary for Import Administration.

[FR Doc. E6-992 Filed 1-25-06; 8:45 am]

BILLING CODE 3510-DS-S